DEPARTMENT OF AGRICULTURE

Forest Service

Meeting of the Land Between The Lakes Advisory Board

AGENCY: Forest Service, USDA.

ACTION: Notice of meeting.

SUMMARY: The Land Between The Lakes Advisory Board will hold a meeting on Thursday, November 3, 2005. Notice of this meeting is given under the Federal Advisory Committee Act, 5 U.S.C. App. 2.

The meeting agenda includes the following:

(1) Welcome/Introductions/Agenda.

(2) Panel Discussion Between Incoming/Outgoing Members.

(3) Recognition of Outgoing Members.

(4) Orientation for Incoming Members.

(5) Introduction of Nature Watch Demonstration Area Topic.

The meeting is open to the public. Written comments are invited and may be mailed to: William P. Lisowsky, Area Supervisor, Land Between The Lakes, 100 Van Morgan Drive, Golden Pond, Kentucky 42211. Written comments received at Land Between The Lakes will be provided to the members.

DATES: The meeting will be held on Thursday, November 3, 2005, 10:30 a.m. to 3 p.m., CST.

ADDRESSES: The meeting will be held at the Administrative Building, Land Between The Lakes, Golden Pond, KY, and will be open to the public.

FOR FURTHER INFORMATION CONTACT: Sharon Byers, Advisory Board Liaison, Land Between The Lakes, 100 Van Morgan Drive, Golden Pond, Kentucky 42211, 270-924-2002.

SUPPLEMENTARY INFORMATION: None.

Dated: October 6, 2005.
William P. Lisowsky,
Area Supervisor, Land Between The Lakes.

[FR Doc. 05-20495 Filed 10-12-05; 8:45 am]

BILLING CODE 3410-11-P